DEPARTMENT OF COMMERCE

National Oceanic and Atmospheric Administration

RIN 0648-XA597

Marine Mammals; File No. 16443

AGENCY: National Marine Fisheries Service (NMFS), National Oceanic and Atmospheric Administration (NOAA), Commerce.

ACTION: Notice; receipt of application for permit.

SUMMARY: Notice is hereby given that David Honig, Nicholas School of the Environment, Duke University Marine Laboratory, 135 Marine Lab Road, Beaufort, NC 28516, has applied in due form for a permit to collect, receive, import, export, possess, and conduct analyses marine mammal specimens for scientific research.

DATES: Written, telefaxed, or e-mail comments must be received on or before August 29, 2011.

ADDRESSES: The application and related documents are available for review by selecting “Records Open for Public Comment” from the Features box on the Applications and Permits for Protected Species home page, https://apps.nmfs.noaa.gov, and then selecting File No. 16433 from the list of available applications.

These documents are also available upon written request or by appointment in the following office(s):

Permits, Conservation and Education Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by e-mail to NMFS.Pr1Comments@noaa.gov. Please include File No. 16433 in the subject line of the e-mail comment.

Those individuals requesting a public hearing should submit a written request to the Chief, Permits, Conservation and Education Division at the address listed above. The request should set forth the specific reasons why a hearing on this application would be appropriate.

FOR FURTHER INFORMATION CONTACT: Laura Morse or Jennifer Skidmore, (301) 427-8401.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

The objectives of this research are to study the ecological importance of whales and characterize the impacts of whaling on animals nutritionally dependent on sunken whale remains in the Antarctic. Research will involve collection, import, export, possession, and analyses of bones of sperm (Physeter macrocephalus) and minke (Balaenoptera acutorostrata) whales which originated from Sweden and Chile. Collection would involve retrieval of a lander on which the whale bones have been placed on the bottom of the Weddell Sea, Antarctica by foreign researchers and under other authorizations. Bones would be imported into the U.S. for analyses. No live animals would be harassed or taken, lethally or otherwise, under the permit. The permit is requested for a five-year period.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 22, 2011.
P. Michael Payne, Chief, Permits,
Conservation and Education Division, Office of Protected Resources, National Marine Fisheries Service.

[FR Doc. 2011-19124 Filed 7-27-11; 8:45 am]

BILLING CODE 3510-22-P